DEPARTMENT OF ENERGY

Federal Energy Regulatory Commission

[Project No. 2397-033]

Green Mountain Power Corporation; Notice of Application Accepted for Filing and Soliciting Comments, Motions To Intervene, and Protests

Take notice that the following hydroelectric application has been filed with the Commission and is available for public inspection:

a. Application Type: Non-Capacity Amendment.

b. Project No: P-2397-033.

c. Date Filed: November 22, 2022.

d. Applicant: Green Mountain Power Corporation.

e. Name of Project: Gage Project.

f. Location: The project is located on the Passumpsic River, near the town of St. Johnsbury, Caledonia County, Vermont.

g. Filed Pursuant to: Federal Power Act, 16 U.S.C. 791a-825r.

h. Applicant Contact: Will Brown, Green Mountain Power Corporation, 2152 Post Road, Rutland, Vermont 05701, (802) 598-6402.

i. FERC Contact: Zeena Aljibury, (202) 502-6065, zeena.aljibury@ferc.gov.

j. Deadline for filing comments, motions to intervene, and protests is 30 days from the issuance date of this notice by the Commission.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2397-033. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The applicant requests a license amendment to replace the existing 6-foot-high wooden flashboards on the 176-feet long north section of spillway, which has a crest elevation of 534.2 feet, with an inflatable crest gate system. The proposal would result in a top crest elevation of 534.2 feet and the top of the inflatable crest gate, when fully raised, would be 539.9 feet (same as existing impoundment elevation). During construction, the applicant requests to temporarily draw down the impoundment (normal pond elevation at 539.9 feet NGVD29) to install a cofferdam on the upstream face of the dam to facilitate safe work conditions. The applicant proposes to draw down the impoundment from June 29 to July 20, 2023 by approximately 1.2 feet to install the cofferdam. Then the applicant would install the cofferdam and begin phase 1 construction from July 21 to mid-September, and during this phase proposes to maintain the water level at the dam crest elevation. Phase 2 construction would last from mid-September to November 23, and no draw down below the dam crest is anticipated during the transition from the phase 1 to phase 2. Finally, the cofferdam removal draw down is anticipated to last approximately 1 week, from November 23 to December 2, 2023 (water levels would be drawn down to elevation 533.0 ft or approximately 1.2 feet below the dam crest). During construction, the applicant proposes to continue to operate the project in a run-of-river mode and would maintain minimum flow requirements during and after construction.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: January 26, 2023.
Debbie-Anne A. Reese,
Deputy Secretary.

[FR Doc. 2023-02091 Filed 1-31-23; 8:45 am]

BILLING CODE 6717-01-P